FEDERAL COMMUNICATIONS COMMISSION

Notice of Public Information Collection(s) Being Reviewed by the Federal Communications Commission, Comments Requested

February 11, 2004.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before April 20, 2004. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-XXXX.

Title: Global Mobile Personal Communications by Satellite (GMPCS) Authorization, Marketing and Importation Rules.

Form No.: N/A.

Type of Review: New collection.

Respondents: Business or other for-profit.

Number of Respondents: 19.

Estimated Time Per Response: 24 hours.

Frequency of Response: On occasion reporting requirement and third party disclosure requirement.

Total Annual Burden: 483 hours.

Total Annual Cost: N/A.

Needs and Uses: In November 2003, the Commission adopted rules and policies pertaining to portable Global Mobile Personal Communications by Satellite (GMPCS) transceivers, which include satellite telephones and other portable transceivers operated by end users for communication via direct radio links and satellites. The Commission's rules under 47 CFR Parts 2 and 25 require interested parties to obtain equipment authorization pursuant to the certification procedure in Part 2 of the Commission's rules. The Part 2 certification procedure requires submission of the FCC Form 731 and exhibits to the Commission, including test data showing that a representative sample unit of the devices that would be covered by the certification if it meets the Commission's applicable technical requirements. Additionally, applicants must file the FCC Form 740 with the U.S. Customs Service. Each device subject to certification must be etched, engraved, or permanently labeled with an identification number, preceded by the term “FCC ID.” Devices subject to this requirement may not be sold or leased, offered for sale or lease, or imported, shipped, or distributed for sale or lease in the United States prior to grant of a pertinent certification application. The requirement will apply to devices imported, sold, leased, shipped, or distributed after November 19, 2004. This new certification requirement for portable GMPCS transceivers will help to prevent interference, will reduce radio-frequency (“RF”) radiation exposure risk, and will make regulatory treatment of portable GMPCS transceivers consistent with treatment of similar terrestrial wireless devices, such as cellular phones. If the Commission did not obtain such information, it would not be able to ascertain whether the equipment meets the FCC's technical standards for operation in the United States. Furthermore, the data is required to ensure that the equipment will not cause catastrophic interference to other telecommunications services that may impact the health and safety of American citizens.

OMB Control No.: 3060-0807.

Title: Section 51.803, and Supplemental Procedures for Petitions to Section 252(e)(5) of the Communications Act of 1934, as amended.

Form No.: N/A.

Type of Review: Extension of a currently approved collection.

Respondents: Business or other for-profit.

Number of Respondents: 10.

Estimated Time Per Response: 40 hours.

Frequency of Response: On occasion reporting requirement and third party disclosure requirement.

Total Annual Burden: 400 hours.

Total Annual Cost: N/A.

Needs and Uses: Any interested party seeking preemption of a state commission's jurisdiction based on the state commission's failure to act shall notify the Commission. See 47 U.S.C. 252(e)(5) and 47 CFR 51.803. In a Public Notice, the Commission set out procedures for filing petitions for preemption pursuant to Section 252(e)(5). All of the information will be used to ensure that petitioners have complied with their obligations under the Communications Act of 1934, as amended.

OMB Control No.: 3060-0741

Title: Implementation of the Local Competition Provisions of the Telecommunications Act of 1996, CC Docket No. 96-98, Second Report and Order and Memorandum Opinion and Order; Second Order on Reconsideration; CC Docket No. 99-273, First Report and Order.

Form No.: N/A.

Type of Review: Extension of a currently approved collection.

Respondents: Business or other for-profit.

Number of Respondents: 2,000.

Estimated Time Per Response: 115 hours.

Frequency of Response: On occasion reporting requirement and third party disclosure requirement.

Total Annual Burden: 228,030 hours.

Total Annual Cost: $60,000.

Needs and Uses: In the First Report and Order issued in CC Docket No. 99-273, the Commission adopts several of its tentative conclusions. The Commission concludes that local exchange carriers (LECs) must provide competing director assistance (DA) providers that qualify under Section 251 with nondiscriminatory access to the LEC's local directory assistance databases, and must do so at nondiscriminatory and reasonable rates. The Commission determined that LECs are not required to grant competing DA providers nondiscriminatory access to non-local directory assistance databases.

OMB Control No.: 3060-XXXX.

Title: Schools and Libraries Universal Service Support Mechanism—Notification of Equipment Transfers.

Form No.: N/A.

Type of Review: New collection.

Respondents: Business or other for-profit.

Number of Respondents: 600.

Estimated Time Per Response: 1 hour.

Frequency of Response: On occasion reporting requirement, third party disclosure requirement and recordkeeping requirement.

Total Annual Burden: 600 hours.

Total Annual Cost: N/A.

Needs and Uses: The Commission addressed several matters related to the administration of the schools and libraries universal service mechanism (also known as the e-rate program). First, we adopt rules that will limit the ability of schools and libraries to engage in wasteful or fraudulent practices when obtaining internal connections. We also prohibit a school or library from transferring equipment purchased with universal service discounts, as part of eligible internal connections services, for a period of three years except in limited circumstances. These rules will advance the goals of the schools and libraries program by making support for internal connections regularly available to a larger number of applicants and by discouraging waste, fraud and abuse.

Federal Communications Commission.
Marlene H. Dortch,
Secretary.

[FR Doc. 04-3731 Filed 2-19-04; 8:45 am]

BILLING CODE 6712-01-U